SMALL BUSINESS ADMINISTRATION

[Disaster Declaration #17121 and #17122; Louisiana Disaster Number LA-00115]

Presidential Declaration of a Major Disaster for the State of Louisiana

AGENCY: U.S. Small Business Administration.

ACTION: Notice.

SUMMARY: This is a Notice of the Presidential declaration of a major disaster for the State of Louisiana (FEMA-4611-DR), dated 08/29/2021.

Incident: Hurricane Ida.

Incident Period: 08/26/2021 and continuing.

DATES: Issued on 08/29/2021.

Physical Loan Application Deadline Date: 10/28/2021.

Economic Injury (EIDL) Loan Application Deadline Date: 05/31/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 08/29/2021, applications for disaster loans may be filed at the address listed above or other locally announced locations.

The following areas have been determined to be adversely affected by the disaster:

Primary Parishes (Physical Damage and Economic Injury Loans): Ascension, Assumption, East Baton Rouge, East Feliciana, Iberia, Iberville, Jefferson, Lafourche, Livingston, Orleans, Plaquemines, Pointe Coupee, Saint Bernard, Saint Charles, Saint Helena, Saint James, Saint Martin, Saint Mary, Saint Tammany, St John the Baptist, Tangipahoa, Terrebonne, Washington, West Baton Rouge, West Feliciana.

Contiguous Parishes/Counties (Economic Injury Loans Only):

Louisiana: Avoyelles, Concordia, Lafayette, Saint Landry, Vermilion.

Mississippi: Amite, Hancock, Marion, Pearl River, Pike, Walthall, Wilkinson.

The Interest Rates are:

| Percent
For Physical Damage:
Homeowners with Credit Available Elsewhere | 3.125
Homeowners without Credit Available Elsewhere | 1.563
Businesses with Credit Available Elsewhere | 5.710
Businesses without Credit Available Elsewhere | 2.855
Non-Profit Organizations with Credit Available Elsewhere | 2.000
Non-Profit Organizations without Credit Available Elsewhere | 2.000
For Economic Injury:
Businesses & Small Agricultural Cooperatives without Credit Available Elsewhere | 2.855
Non-Profit Organizations without Credit Available Elsewhere | 2.000

The number assigned to this disaster for physical damage is 17121 8 and for economic injury is 17122 0.

(Catalog of Federal Domestic Assistance Number 59008)

James Rivera,
Associate Administrator for Disaster Assistance.

[FR Doc. 2021-19094 Filed 9-2-21; 8:45 am]

BILLING CODE 8026-03-P